DEPARTMENT OF JUSTICE

Notice of Lodging of Consent Decree Under the Clean Air Act

Pursuant to 28 CFR 50.7 notice is hereby given that on July 31, 2003, a proposed Consent Decree in United States v. E.F.I. DuPont De Nemours and Company (“DuPont”), Civil Action No. 5.03CV-175-R, was lodged with the United States District Court for the Western District of Kentucky.

The Consent Decree resolves the government's claims for violations of the General Duty of Care provisions of the Clean Air Act, 42 U.S.C. 7412(r), with respect to DuPont's fluoroproducts plant in Louisville, Kentucky.

The settlement provides for payment of $550,000 in civil penalties and performance of eight Supplemental Environmental Projects (“SEPs”) valued at $552,000. Under the proposed SEPs, DuPont will provide emergency response equipment and training for Local Emergency Planning Committees (“LEPCs”), provide a green buffer zone between its facility and the surrounding area, and contract with a community group in an environmental justice area to set up a website on environmental issues and ensure that the group can continue to run its information center which disseminates information on environmental issues.

The Department of Justice will receive for a period of thirty (30) days from the date of this publication comments relating to the Consent Decree. Comments should be addressed to the Assistant Attorney General, Environment and Natural Resources Division, PO Box 7611, U.S. Department of Justice, Washington, DC 20044-7611, and should refer to United States v. E.I.DuPont De Nemours and Company, D.J. Ref. 90-5-2-1-2099/2.

The Consent Decree may be examined at U.S. EPA Region 4, 61 Forsyth Street, Atlanta, Georgia 30303. During the public comment period, the Consent Decree, may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $14.25 (25 cents per page reproduction cost) payable to the U.S. Treasury.

Ellen M. Mahan,
Assistant Section Chief, Environmental Enforcement Section.

[FR Doc. 03-21388 Filed 8-20-03; 8:45 am]

BILLING CODE 4410-15-M